DEPARTMENT OF HEALTH AND HUMAN SERVICES

Centers for Disease Control and Prevention

Health Resources and Services Administration

CDC/HRSA Advisory Committee on HIV and STD Prevention and Treatment

In accordance with section 10(a)(2) of the Federal Advisory Committee Act (Pub. L. 92-463), the Centers for Disease Control and Prevention (CDC) and the Health Resources and Services Administration (HRSA) announce the following meeting of the aforementioned committee:

Times and Dates:

8 a.m.-5:30 p.m., May 8, 2012.

8 a.m.-3 p.m., May 9, 2012.

Place: The Westin Buckhead Atlanta, 3391 Peachtree Road, NE.,

Atlanta, Georgia, 30326, Telephone: (404) 365-0065.

Status: Open to the public, limited only by the space available.

The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters To Be Discussed: Agenda items include: (1) Enhancing Hepatitis Prevention Treatment and Care in the United States;

(2) Integrating HIV Prevention and Care Data Systems; (3) External Peer Review of CDC Youth HIV/STI Prevention and Sexual Health Activities; (4) Preparing for the Ryan White Reauthorization; and (5) CHAC Workgroups Update.

Agenda items are subject to change as priorities dictate.

Contact Person for More Information: Margie Scott-Cseh, CDC, National Center for HIV/AIDS, Viral Hepatitis, STD, and TB Prevention, 1600 Clifton Road, NE., Mailstop E-07, Atlanta, Georgia 30333, Telephone (404) 639-8317.

The Director, Management Analysis and Services Office, has been delegated the authority to sign Federal Register Notices pertaining to announcements of meetings and other committee management activities, for both the Centers for Disease Control and Prevention and the Agency for Toxic Substances and Disease Registry.

Dated: April 16, 2012.
Elaine L. Baker,
Director, Management Analysis and Services Office, Centers for Disease Control and Prevention.

[FR Doc. 2012-9549 Filed 4-19-12; 8:45 am]

BILLING CODE 4163-18-P